DEPARTMENT OF DEFENSE

Department of the Army, Corps of Engineers

Intent To Prepare an Environmental Impact Statement for the Tampa Harbor Navigation Improvement Study, Hillsborough County, Florida

AGENCY: U.S. Army Corps of Engineers, Department of the Army, DoD.

ACTION: Notice of intent to prepare a Draft Environmental Impact Statement for a General Reevaluation Report of navigation improvements at Port Tampa, Hillsborough County, FL.

SUMMARY: Pursuant to the requirements of the National Environmental Policy Act (NEPA) of 1969, as implemented by the Council on Environmental Quality regulations, the U.S. Army Corps of Engineers (USACE), Jacksonville District, announces its intent to prepare an Integrated General Reevaluation Report and Environmental Impact Statement (EIS) to examine navigation improvements to the existing Tampa Harbor Federal Navigation Project. The purpose of the study is to determine the need and feasibility of deepening and/or widening the current Tampa Harbor federal navigation channel to improve vessel capacity, efficiency, and safety. Comments are being sought regarding identification of potential alternatives, information, and analysis relevant to the study for improving navigation, beneficial use of dredge material, and analyses to support evaluation of effects on the human environment and will be accepted at any time during the EIS process.

DATES: Written comments and suggestions must be submitted by May 16, 2023.

ADDRESSES: To ensure the USACE has sufficient time to consider public input in the preparation of the Draft EIS, scoping comments should be submitted to Mr. Michael Ornella II by email at tampaharborfl@usace.army.mil; or by surface mail to U.S. Army Corps of Engineers, Planning and Policy Division, Environmental Branch, P.O. Box 4970, Jacksonville, FL 32232-0019.

FOR FURTHER INFORMATION CONTACT: Michael Ornella II, at 904-232-1498 or tampaharborfl@usace.army.mil.

SUPPLEMENTARY INFORMATION:

Background: USACE participation in this study is authorized by Section 3052 of the Water Resources Development Act of 2007. The non-Federal sponsor for the study is Port Tampa Bay. The study was initiated at the request of Port Tampa Bay. The study is being cost-shared 65-percent Federal and 35-percent non-Federal with Port Tampa Bay.

Proposed Action: This study will consider navigation improvements including deepening and/or widening the federal navigation project. The main stem of Tampa Harbor is currently authorized at −43 feet Mean Lower Low Water (MLLW). Big Bend and Cut D (Hillsborough Bay) channels are authorized at −41 feet MLLW, and the upper channels are authorized at −34 feet MLLW. The channel varies in width from 500 feet in the main stem to 300 feet in the upper channels, with some channel cuts limited to 200 or 250 feet.

Alternatives: The study will identify, evaluate, and recommend to decision makers an appropriate, coordinated, and workable solution to the navigation inefficiencies at Tampa Harbor. Alternatives will include no action, and alternatives that include one or more of the following measures: incremental deepening and the resulting widening from 44 feet to 54 feet, incremental passing lanes up to 300 feet in width at Cut B and Gadsden Cut, adjustments to improve maneuverability in turning basins, widening and extension of Big Bend Channel, and channel intersection and widener improvements throughout the harbor. The study will evaluate numerous dredged material placement alternatives including beneficial use, open water placement, and upland placement. Dredged material that is sandy is expected to be suitable for placement on Egmont Key or other beneficial use sites identified in Tampa Harbor. Rocky material is likely to be utilized for hardbottom creation and expansion of existing artificial reefs next to the channel. Additional beneficial use options are being determined and analyzed for other dredge material types and include island creation/enhancement at Alafia Bank Sanctuary, MacDill Air Force Base shoreline enhancement, and beach nourishment on Ft. Desoto Beach.

Significant Issues: Impacts are expected to be short-term and temporary in nature, including short-term disturbance to hardbottom and creation of new hardbottom habitat adjacent to the channel edge, short-term turbidity at the dredge and placement sites, temporary noise impacts to fish and wildlife resources, impacts to swimming sea turtles during dredging operations, impacts to nesting sea turtles during material placement and long-term benefits from beach nourishment, and disruption of recreation and navigation during dredging and placement activities.

However, due to the volume of material expected to be dredged—up to 40 million cubic yards—and the likely beneficial use of a majority of that material, possibly to restore Egmont Key, an EIS is being proposed.

Public Involvement and Scoping: A scoping letter was sent November 1, 2021, to invite comments from Federal, State, and local agencies, affected Indian tribes, and other interested private organizations and individuals. USACE hosted two (2) virtual NEPA scoping meetings on November 18, 2021. USACE received comments from agencies, organizations, and individuals in favor of the project and requesting additional information on concerns over the impacts to property, flood hazards, and wildlife. USACE addressed the comments, both at the meeting and in email. Due to the scale of effects, the USACE is inviting additional comments with this Notice of Intent.

Environmental Review and Consultation Requirements: The proposed project is subject to review pursuant to (but not limited to) the Coastal Zone Management Act, Endangered Species Act, Fish and Wildlife Coordination Act, Magnuson-Stevens Fishery Conservation and Management Act, Marine Mammal Protection Act, Clean Water Act, Marine Protection, Research, and Sanctuaries Act, National Historic Preservation Act, and NEPA.

Project Schedule: The Draft Integrated General Reevaluation Report and Environmental Impact Statement is expected to be available for public review in July of 2023. A 45-day public review period will be provided for interested parties and agencies to review and comment on this draft document. All interested parties are encouraged to respond to this notice and provide a current address if they wish to be notified of the Draft EIS circulation. A Record of Decision would be approved and signed no earlier than 30 days after the Final EIS.

Daniel H. Hibner,
Brigadier General, U.S. Army, Commanding.

[FR Doc. 2023-05480 Filed 3-16-23; 8:45 am]

BILLING CODE 3720-58-P